DEPARTMENT OF COMMERCE

National Oceanic and Atmospheric Administration

50 CFR Part 648

[Docket No. 090206144-9697-02]

RIN 0648-XT09

Fisheries of the Northeastern United States; Atlantic Bluefish Fishery; Commercial Quota Harvested for New Jersey

AGENCY: National Marine Fisheries Service (NMFS), National Oceanic and Atmospheric Administration (NOAA), Commerce.

ACTION: Closure of commercial fishery.

SUMMARY: NMFS announces that the Atlantic bluefish commercial quota available to New Jersey has been harvested. Vessels issued a commercial Federal fisheries permit for the Atlantic bluefish fishery may not land bluefish in New Jersey for the remainder of calendar year 2009, unless additional quota becomes available through a transfer. Regulations governing the Atlantic bluefish fishery require publication of this notification to advise New Jersey that the quota has been harvested and to advise vessel permit holders and dealer permit holders that no commercial quota is available for landing bluefish in New Jersey.

DATES: Effective 0001 hours, November 25, 2009, through 2400 hours, December 31, 2009.

FOR FURTHER INFORMATION CONTACT: Sarah Heil, Fishery Management Specialist, (978) 281-9257.

SUPPLEMENTARY INFORMATION: Regulations governing the Atlantic bluefish fishery are found at 50 CFR part 648. The regulations require annual specification of a commercial quota that is apportioned on a percentage basis among the coastal states from Florida through Maine. The process to set the annual commercial quota and the percent allocated to each state is described in § 648.160.

On May 4, 2009, NMFS published the final specifications for the Atlantic bluefish fishery (74 FR 20423). The initial Federal coastwide commercial quota for Atlantic bluefish for the 2009 calendar year was set equal to 4,991,000 lb (2,263 mt). The initial commercial quota was adjusted by transferring 4,838,000 lb (2,194 mt) from the initial recreational allocation, resulting in a total commercial quota of 9,828,000 lb (4,458 mt). The percent allocated to vessels landing bluefish in New Jersey is 14.8162 percent, resulting in an initial commercial quota of 1,441,702 lb (653.95 mt).

The regulations at § 648.161(b) require the Administrator, Northeast Region, NMFS (Regional Administrator), to monitor state commercial quotas and to determine when a state's commercial quota has been harvested. NMFS then publishes a notification in the Federal Register to advise the state and to notify Federal vessel and dealer permit holders that, effective upon a specific date, the state's commercial quota has been harvested and no commercial quota is available for landing bluefish in that state. The Regional Administrator has determined, based upon dealer reports and other available information, that New Jersey has harvested its quota for calendar year 2009.

The regulations at § 648.4(b) provide that Federal permit holders agree, as a condition of the permit, not to land bluefish in any state that the Regional Administrator has determined no longer has commercial quota available. Therefore, effective 0001 hours, November 25, 2009, further landings of bluefish in New Jersey by vessels holding Atlantic bluefish commercial Federal fisheries permits are prohibited for the remainder of the 2009 calendar year, unless additional quota becomes available through a transfer and is announced in the Federal Register. Effective 0001 hours, November 25, 2009, federally permitted dealers are also notified that they may not purchase bluefish from federally permitted vessels that land in New Jersey for the remainder of the calendar year, or until additional quota becomes available through a transfer.

Classification

This action is required by 50 CFR part 648 and is exempt from review under Executive Order 12866.

Authority: 16 U.S.C. 1801 et seq.

Dated: November 23, 2009.
Emily H. Menashes,
Acting Director, Office of Sustainable Fisheries, National Marine Fisheries Service.

[FR Doc. E9-28397 Filed 11-23-09; 4:15 pm]

BILLING CODE 3510-22-S